COMMISSION ON CIVIL RIGHTS

Agenda and Notice of Public Meeting of the North Dakota Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the North Dakota Advisory Committee to the Commission will convene on Monday, July 9, 2018, at 4:00 p.m. (CDT) at the Fargo Public Central Library, Fercho Room, 102 3rd Street North, Fargo, ND 58102. The purpose of the meeting is to hold the first meeting of the committee and discuss civil rights topics.

DATES: Monday, July 9, 2018 at 4:00 p.m. (CDT).

ADDRESSES: Fargo Public Central Library, Fercho Room, 102 3rd Street North, Fargo, ND 58102.

FOR FURTHER INFORMATION CONTACT: Evelyn Bohor, at ebohor@usccr.gov or by phone at 303-866-1040.

SUPPLEMENTARY INFORMATION: If other persons who plan to attend the meeting require other accommodations, please contact Evelyn Bohor at ebohor@usccr.gov at the Rocky Mountain Regional Office at least ten (10) working days before the scheduled date of the meeting.

Time will be set aside at the end of the meeting so that members of the public may address the Committee after the planning meeting. Persons interested in the issue are also invited to submit written comments; the comments must be received in the regional office by Thursday, August 9, 2018. Written comments may be mailed to the Rocky Mountain Regional Office, U.S. Commission on Civil Rights, 1961 Stout Street, Suite 13-201, Denver, CO 80294, faxed to (303) 866-1040, or emailed to Evelyn Bohor at ebohor@usccr.gov. Persons who desire additional information may contact the Rocky Regional Office at (303) 866-1040.

Records and documents discussed during the meeting will be available for public viewing as they become available at https://facadatabase.gov/committee/meetings.aspx?cid=267 and clicking on the “Meeting Details” and “Documents” links. Records generated from this meeting may also be inspected and reproduced at the Eastern Regional Office, as they become available, both before and after the meeting. Persons interested in the work of this advisory committee are advised to go to the Commission's website, www.usccr.gov, or to contact the Rocky Mountain Regional Office at the above phone number, email or street address.

Agenda

Monday, July 9, 2018 at 4:00 p.m. (CDT)

I. Roll Call

II. Discuss Civil Rights Topics

IV. Other Business

IV. Open Comment

IV. Adjournment

Dated: June 20, 2018.
David Mussatt,
Supervisory Chief, Regional Programs Unit.

[FR Doc. 2018-13516 Filed 6-22-18; 8:45 am]

BILLING CODE P